DEPARTMENT OF EDUCATION

Office of Postsecondary Education; Call for Written Third-Party Comments

AGENCY: Accreditation Group, Office of Postsecondary Education, U.S. Department of Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW., Room 6C115, Washington, DC 20202, telephone: (202) 453-7615, or email: herman.bounds@ed.gov.

SUPPLEMENTARY INFORMATION: NACIQI's Statutory Authority and Function: The National Advisory Committee on Institutional Quality and Integrity (NACIQI) is established under Section 114 of the Higher Education Act of 1965, as amended (HEA), 20 U.S.C. 1011c. The NACIQI advises the Secretary of Education about:

• The establishment and enforcement of the criteria for recognition of accrediting agencies or associations under Subpart 2, Part H, Title IV of the HEA, as amended.

• The recognition of specific accrediting agencies or associations or a specific State public postsecondary vocational education or nurse education approval agency.

• The preparation and publication of the list of nationally recognized accrediting agencies and associations.

• The eligibility and certification process for institutions of higher education under Title IV of the HEA, together with recommendations for improvement in such process.

• The relationship between (1) accreditation of institutions of higher education and the certification and eligibility of such institutions, and (2) State licensing responsibilities with respect to such institutions.

• Any other advisory function relating to accreditation and institutional eligibility that the Secretary may prescribe.

This solicitation of third-party comments concerning the performance of accrediting agencies under review by the Secretary is required by § 496(n)(1)(A) of the Higher Education Act (HEA) of 1965, as amended. These accrediting agencies will be on the agenda for the December 2017 NACIQI meeting. The meeting date has not been determined, but will be announced in a separate Federal Register notice.

Agencies Under Review and Evaluation: Below is a list of agencies currently undergoing review and evaluation by the Accreditation Group, including their current and requested scopes of recognition:

Applications for Renewal of Recognition:

1. Accreditation Commission for Education in Nursing, Inc., Scope of Recognition: Accreditation of nursing education programs and schools, both postsecondary and higher degree, which offer a certificate, diploma, or a recognized professional degree including clinical doctorate, masters, baccalaureate, associate, diploma, and practical nursing programs in the United States and its territories, including those offered via distance education.

2. Accrediting Commission for Midwifery Education, Scope of Recognition: The accreditation and pre-accreditation of basic certificate, basic graduate nurse-midwifery, direct entry midwifery, and pre-certification nurse-midwifery education programs, including those programs that offer distance education in the United States.

3. American Physical Therapy Association, Commission on Accreditation in Physical Therapy Education, Scope of Recognition: The accreditation and preaccreditation (“Candidate for Accreditation”) in the United States of physical therapist education programs leading to the first professional degree at the master's or doctoral level and physical therapist assistant education programs at the associate degree level and for its accreditation of such programs offered via distance education.

4. Middle States Commission on Higher Education, Scope of Recognition: The accreditation and preaccreditation (“Candidacy status”) of institutions of higher education in Delaware, the District of Columbia, Maryland, New Jersey, New York, Pennsylvania, Puerto Rico, and the U.S. Virgin Islands, including distance and correspondence education programs offered at those institutions.

5. Higher Learning Commission, Scope of Recognition: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education and correspondence education within these institutions. This recognition extends to the Institutional Actions Council jointly with the Board of Trustees of the Commission for decisions on cases for continued accreditation or reaffirmation, and continued candidacy, and to the Appeals Body jointly with the Board of Trustees of the Commission for decisions related to initial candidacy or accreditation or reaffirmation of accreditation.

6. New England Association of Schools and Colleges, Commission on Institutions of Higher Education, Scope of Recognition: The accreditation and pre-accreditation (“Candidacy status”) of institutions of higher education in Connecticut, Maine, Massachusetts, New Hampshire, Rhode Island, and Vermont that award bachelor's, master's, and/or doctoral degrees and associate degree-granting institutions in those states that include degrees in liberal arts or general studies among their offerings, including the accreditation of programs offered via distance education within these institutions.

7. New York State Board of Regents, and the Commissioner of Education, Scope of Recognition: The accreditation of those degree-granting institutions of higher education in New York that designate the agency as their sole or primary nationally recognized accrediting agency for purposes of establishing eligibility to participate in HEA programs including accreditation of programs offered via distance education within these institutions.

8. Western Association of Schools and Colleges, Senior Colleges and University Commission, Scope of Recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.

Compliance Report:

1. American Board of Funeral Service Education, Committee on Accreditation, Compliance report includes the following: (1) Findings identified in the March 10, 2016 letter from the senior Department official following the December 2015 NACIQI meeting available at: https://opeweb.ed.gov/aslweb/finalstaffreports.cfm, and (2) Review under 34 CFR 602.15(a)(6), 602.20(b), and 602.24(f)(2).

Scope of recognition: The accreditation of institutions and programs within the United States awarding diplomas, associate degrees and bachelor's degrees in funeral service or mortuary science, including the accreditation of distance learning courses and programs offered by these programs and institutions.

2. Montessori Accreditation Council for Teacher Education, Compliance report includes the following: 1) Findings identified in the March 10, 2016 letter from the senior Department official following the December 2015 NACIQI meeting available at: https://opeweb.ed.gov/aslweb/finalstaffreports.cfm, and (2) Review under 34 CFR 602.17(f), 602.19(b), and 602.20(b).

Scope of recognition: The accreditation of Montessori teacher education institutions and programs throughout the United States, including those offered via distance education.

3. Midwifery Education Accreditation Council, Compliance report includes the following: (1) Findings identified in the March 10, 2016 letter from the senior Department official following the December 2015 NACIQI meeting available at: https://opeweb.ed.gov/aslweb/finalstaffreports.cfm, and (2) Review under 34 CFR 602.19(b), 602.20(a), and 602.20(b).

Scope of recognition: The accreditation and pre-accreditation throughout the United States of direct-entry midwifery educational institutions and programs conferring degrees and certificates, including the accreditation of such programs offered via distance education.

Applications for Renewal of Recognition—State Agency for Nurse Education

North Dakota Board of Nursing.

Compliance Report—State Agency for Nurse Education

New York State Board of Regents, State Education Department, Office of the Professions, Nursing Education, Compliance report includes the following: (1) Findings identified in the March 10, 2016 letter from the senior Department official following the December 2015 NACIQI meeting available at: https://opeweb.ed.gov/aslweb/finalstaffreports.cfm, and (2) Review under 34 CFR 3d.

Compliance Report—State Agency for the Approval of Public Postsecondary Vocational Education

Oklahoma Board of Career and Technology Education, Compliance report includes the following: (1) Findings identified in the March 10, 2016 letter from the senior Department official following the December 2015 NACIQI meeting available at: https://opeweb.ed.gov/aslweb/finalstaffreports.cfm, and (2) Review under 34 CFR 603.24(a)(1)(ii), 603.24(a)(3)(ii)(A), 603.24(b)(1)(iii), 603.24(b)(1)(iv), 603.24(b)(1)(v), 603.24(b)(1)(vi), 603.24(b)(1)(vii), 603.24(b)(2)(i), 603.24(b)(2)(ii), 603.24(b)(2)(iii), 603.24(d)(1), 603.24(d)(2).

Scope of Recognition: The approval of public postsecondary vocational education offered at institutions in the State of Oklahoma that are not under the jurisdiction of the Oklahoma State Regents of Higher Education, including the approval of public postsecondary vocational education offered via distance education.

Submission of Written Comments Regarding a Specific Accrediting Agency or State Approval Agency Under Review

Written comments about the recognition of a specific accrediting or State agency must be received by August 13, 2017, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to issues identified in the compliance report and the criteria for recognition cited in the senior Department official's letter that requested the report, or in the Secretary's appeal decision, if any. Comments about the renewal of an agency's recognition based on a review of the agency's petition must relate to its compliance with the Criteria for the Recognition of Accrediting Agencies, or the Criteria and Procedures for Recognition of State Agencies for Approval of Nurse Education as appropriate, which are available at http://www.ed.gov/admins/finaid/accred/index.html.

Only material submitted by the deadline to the email address listed in this notice, and in accordance with these instructions, become part of the official record concerning agencies scheduled for review and are considered by the Department and NACIQI in their deliberations.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Lynn B. Mahaffie,
Deputy Assistant Secretary for Planning, Policy, and Innovation.

[FR Doc. 2017-15561 Filed 7-24-17; 8:45 am]

BILLING CODE 4000-01-P